FEDERAL EMERGENCY MANAGEMENT AGENCY

[FEMA-3171-EM]

Space Shuttle Columbia; Amendment No. 1 to Notice of an Emergency Declaration

AGENCY: Federal Emergency Management Agency (FEMA).

ACTION: Notice.

SUMMARY: This notice amends the notice of the Presidential declaration of an emergency for the Space Shuttle Columbia, (FEMA-3171-EM), dated February 1, 2003, as amended, and related determinations.

EFFECTIVE DATE: February 21, 2003.

FOR FURTHER INFORMATION CONTACT: Magda Ruiz, Response and Recovery Directorate, Federal Emergency Management Agency, Washington, DC 20472, (202) 646-2705 or Magda.Ruiz@fema.gov.

SUPPLEMENTARY INFORMATION: The notice of the emergency declaration for the Space Shuttle Columbia is hereby amended to include the following areas among those areas determined to have been adversely affected by the catastrophe declared an emergency by the President in his declaration of February 1, 2003, as amended:

Andrews, Bowie, Cameron, Camp, Chambers, Denton, El Paso, Hardin, Hood, Houston, Jackson, Limestone, Polk, Rockwall, Somervell, and Trinity Counties for debris removal (Category A) and emergency protective measures (Category B) under the Public Assistance program at 100 percent Federal funding.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.556, Fire Management Assistance; 83.558, Individual and Household Housing; 83.559, Individual and Household Disaster Housing Operations; 83.560 Individual and Household Program-Other Needs, 83.544, Public Assistance Grants; 83.548, Hazard Mitigation Grant Program.)

Joe M. Allbaugh,
Director.

[FR Doc. 03-4727 Filed 2-27-03; 8:45 am]

BILLING CODE 6718-02-P